DEPARTMENT OF STATE

[Public Notice: 12031]

U.S. Advisory Commission on Public Diplomacy; Notice of Charter Renewal for the U.S. Advisory Commission on Public Diplomacy

The Department of State has renewed the Charter for the U.S. Advisory Commission on Public Diplomacy (ACPD).

The Commission was originally established under section 604 of the United States Information and Educational Exchange Act of 1948, as amended (22 U.S.C. 1469), and under section 8 of Reorganization Plan Number 2 of 1977. It was permanently reauthorized pursuant to section 5604 of the National Defense Authorization Act, Fiscal Year 2022 (Pub. L. 117-81), which amended section 1134 of the Foreign Affairs Reform and Restructuring Act of 1998 (22 U.S.C. 6553).

For more than 70 years, the ACPD has appraised U.S. Government activities intended to understand, inform, and influence foreign publics and has aimed to increase the understanding of and support for these activities. The Commission conducts research and symposia that provide honest assessments and informed discourse on public diplomacy efforts across the U.S. Government, and it disseminates findings through reports, white papers, and other publications. It reports to the President, Secretary of State, and Congress. The Under Secretary for Public Diplomacy and Public Affairs' Office of Policy, Planning, and Resources (R/PPR) provides administrative support for the ACPD.

The Commission consists of seven members appointed by the President, with the advice and consent of the Senate. The members of the Commission represent the public interest and are selected from a cross section of educational, communications, cultural, scientific, technical, public service, labor, business, and professional backgrounds. No more than four members may be from any one political party. The President designates a member to chair the Commission.

The current members of the Commission are: Mr. Sim Farar of California, Chair; Mr. William Hybl of Colorado, Vice-Chair; and Ms. Anne Terman Wedner of Florida. Four seats on the Commission currently are vacant.

The Charter renewal was filed on March 15, 2023.

For further information about the Commission, please contact Vivian S. Walker, the Commission's Designated Federal Officer and Executive Director, at WalkerVS@state.gov.

Authority: 22 U.S.C. 2651a, 22 U.S.C. 1469, 5 U.S.C. 1001 et seq., and 41 CFR 102-3.150.

Kristina K. Zamary,
Department of State.

[FR Doc. 2023-06740 Filed 3-30-23; 8:45 am]

BILLING CODE 4710-45-P